DEPARTMENT OF COMMERCE

Foreign-Trade Zones Board

[B-01-2020]

Foreign-Trade Zone (FTZ) 84—Houston, Texas; Notification of Proposed Production Activity; Mitsubishi Caterpillar Forklift America, Inc.; (Forklift/Work Trucks and Related Subassemblies/Kits); Houston, Texas

Mitsubishi Caterpillar Forklift America, Inc. (MCFA) submitted a notification of proposed production activity to the FTZ Board for its facility in Houston, Texas. The notification conforming to the requirements of the regulations of the FTZ Board (15 CFR 400.22) was received on December 20, 2019.

MCFA already has authority to produce forklift trucks within FTZ 84. The current request would add finished products and foreign-status materials/components to the scope of authority. Pursuant to 15 CFR 400.14(b), additional FTZ authority would be limited to the specific foreign-status materials/components and specific finished products described in the submitted notification (as described below) and subsequently authorized by the FTZ Board.

Production under FTZ procedures could exempt MCFA from customs duty payments on the foreign-status materials/components used in export production. On its domestic sales, for the foreign-status materials/components noted below and in the existing scope of authority, MCFA would be able to choose the duty rates during customs entry procedures that apply to the following products: Internal plastic hose assemblies; internal rubber hose assemblies; tire assemblies; rim cushion assemblies; chain assemblies; lift chain assemblies; chain anchor assemblies; mast plate assemblies; automated guided forklift vehicles; backrest assemblies; side shifter assemblies; wire mesh shield assemblies; chain assemblies; pallet clamp assemblies; cab kits; overhead guard kits; carriage assemblies; cooling kits; dash board assemblies; fender assemblies; frame assemblies; frame cover assemblies; fork assemblies; fuel tank assemblies; tank weldment assemblies; handle assemblies; handle holder assemblies; hub assemblies; lift bracket assemblies; load wheel assemblies; mast assemblies; inner mast assemblies; middle mast assemblies; outer mast assemblies; mast bracket assemblies; lift line accumulators; mast brace assemblies; mast cable guide assemblies; mirror kits; mounted lifting eyes used for the purpose of lifting the finished good; front axle subassemblies; rear axle subassemblies; rear support plate assemblies; side plate assemblies; step plate assemblies; seatbelt extension assemblies; seatbelt grip assemblies; cab lanyard kits; pneumatic tire assemblies; trailer hitch assemblies; trolley kits; traction control shift assemblies; travel alarm assemblies; side shifter assemblies; radio data terminals; auxiliary valve assemblies; engine shutdown kits; solenoid valve assemblies; work lights assemblies; electric horn kits; rotary switch kits; angle sensor assemblies; electrical assemblies; cable assemblies; harness assemblies; self-propelled electric work trucks; and, vinyl seat assemblies (duty rates range from free to 3.1%). MCFA would be able to avoid duty on foreign-status components which become scrap/waste. Customs duties also could possibly be deferred or reduced on foreign-status production equipment.

The materials/components sourced from abroad include oil coolers, automated guided forklift vehicles, self-propelled electric work trucks, rubber tire assemblies, lithium ion batteries, and steel mast rails (duty rates range from free to 3.4%). The request indicates that lithium ion batteries will be admitted to the zone in privileged foreign status (19 CFR 146.41), thereby precluding inverted tariff benefits on such items. The request also indicates that certain materials/components are subject to special duties under Section 232 of the Trade Expansion Act of 1962 (Section 232) and/or Section 301 of the Trade Act of 1974 (Section 301), depending on the country of origin. The applicable Section 232 and Section 301 decisions require subject merchandise to be admitted to FTZs in privileged foreign status.

Public comment is invited from interested parties. Submissions shall be addressed to the Board's Executive Secretary and sent to: ftz@trade.gov. The closing period for their receipt is February 24, 2020.

A copy of the notification will be available for public inspection in the “Reading Room” section of the Board's website, which is accessible via www.trade.gov/ftz.

For further information, contact Diane Finver at Diane.Finver@trade.gov or (202) 482-1367.

Dated: January 6, 2020.
Andrew McGilvray,
Executive Secretary.

[FR Doc. 2020-00380 Filed 1-13-20; 8:45 am]

BILLING CODE 3510-DS-P